DEPARTMENT OF TRANSPORTATION

National Highway Traffic Safety Administration

Information Collection Activities: Submission for the Office of Management and Budget (OMB) Review; Request for Comment

AGENCY: National Highway Traffic Safety Administration (NHTSA), DOT.

ACTION: Notice of the OMB review of information collection and solicitation of public comment.

SUMMARY: In compliance with the Paperwork Reduction Act of 1995 (44 U.S.C. chapter 35), this notice announces that the Information Collection Request (ICR) abstracted below will be submitted to the Office of Management and Budget (OMB) for review. The ICR describes the nature of the information collection and its expected burden. A Federal Register Notice with a 60-day comment period soliciting public comments on the following information collection was published on February 14, 2014 (Federal Register/Vol. 79, No. 31/pp. 9038-9040).

DATES: Submit comments to the Office of Management and Budget (OMB) on or before December 5, 2014.

FOR FURTHER INFORMATION CONTACT: Alan Block at the National Highway Traffic Safety Administration, Office of Behavioral Safety Research (NTI-131), W46-499, Department of Transportation, 1200 New Jersey Avenue SE., Washington, DC 20590. Mr. Block's phone number is 202-366-6401 and his email address is alan.block@dot.gov.

SUPPLEMENTARY INFORMATION: OMB Control Number: 2127-New.

Title: Demonstration Tests of Different High Visibility Enforcement Models.

Form No.: NHTSA Forms 1121 and 1122.

Type of Review: Regular.

Respondents: Telephone interviews will be administered to residents in each of five selected communities who are drivers, age 18 and older, have access to a residential landline and/or a personal cell phone, and have consumed alcohol in the past year. In-person interviews will be conducted in each of the five selected communities at bars or other establishments serving alcohol with patrons age 21 and older.

Estimated Number of Respondents: A maximum of 18,000 telephone interviews and 6,000 in-person interviews with patrons of bars or other establishments serving alcohol.

Estimated Time per Response: 10 minutes per telephone interview and 10 minutes per interview with patrons of bars or other establishments serving alcohol.

Total Estimated Annual Burden Hours: 4,000 hours.

Frequency of Collection: There will be a maximum of three survey waves at each of the five community sites. A telephone survey and a survey of patrons at bars or other establishments serving alcohol will be conducted during each survey wave, with each respondent interviewed once. The drinking establishment interview will be split such that questions will be asked of each respondent both during entry and exit from the establishment.

Abstract: Highly visible enforcement (HVE) has had the strongest support in the research literature for effectiveness in reducing alcohol-impaired driving. The unknown at this time is the relationship of the amount of HVE to perceived likelihood within a community of an alcohol-impaired driver being stopped by law enforcement. In particular, does the perceived likelihood increase as the amount of HVE increases? And is the optimum effect on awareness and perceived likelihood achieved through an integrated program where HVE is integrated into regular law enforcement operations? NHTSA proposes to answer those questions by selecting community sites engaging in different levels of HVE activity during a one-year period, and measuring community awareness of those enforcement programs and the perceived likelihood of an alcohol-impaired driver being stopped by law enforcement.

Data collection to assess program awareness and perceptions of enforcement will be of two forms. Telephone surveys will be conducted in each community, with each survey wave composed of 1,200 completed interviews with drivers age 18 and older who have consumed alcohol in the past year. The second form of data collection will be in-person interviews with patrons at bars or other establishments serving alcohol. The intent here is to collect information on program awareness and perceived likelihood of an alcohol-impaired driver being stopped by law enforcement from a population with a heavier concentration of individuals at-risk of driving at illegal blood alcohol concentrations (BACs) than one would find in a community-wide telephone survey. The drinking establishment surveys will be conducted during the same times of the year as the telephone surveys. Four hundred bar patrons will be interviewed per community per survey wave, with a maximum of three survey waves. Respondents will be asked a few questions both upon entry and exit from the establishment. Breath samples will also be taken. The breath test results will not be available on-site but will be downloaded later.

In conducting the telephone interviews, the interviewers would use computer-assisted telephone interviewing to reduce interview length and minimize recording errors. No personal information will be collected that would allow any respondent to be identified. The data collection at drinking establishments would be anonymous; no personal information that would allow anyone to identify respondents will be collected.

ADDRESSES: Send comments regarding the burden estimate, including suggestions for reducing the burden, to the Office of Information and Regulatory Affairs, Office of Management and Budget, 725 17th Street NW., Washington, DC 20503, Attention: Desk Officer for Department of Transportation, National Highway Traffic Safety Administration, or by email at oira_submission@omb.eop.gov, or fax: 202-395-5806.

Comments Are Invited on: whether the proposed collection of information is necessary for the proper performance of the functions of the Department of Transportation, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication of this notice.

Authority: 44 U.S.C. 3506(c)(2)(A).

Issued in Washington, DC on October 31, 2014.
Jeff Michael,
Associate Administrator, Research and Program Development.

[FR Doc. 2014-26337 Filed 11-4-14; 8:45 am]

BILLING CODE 4910-59-P